DEPARTMENT OF AGRICULTURE

Agricultural Marketing Service

9 CFR Part 201

[Doc. No. AMS-FTPP-24-0013]

RIN 0581-AE30

Price Discovery and Competition in Markets for Fed Cattle; Extension of Comment Period

AGENCY: Agricultural Marketing Service, USDA.

ACTION: Advance notice of proposed rulemaking; extension of comment period.

SUMMARY: The Agricultural Marketing Service (AMS) is extending the public comment period on its advance notice of proposed rulemaking (ANPR) by an additional 30 days. The ANPR requests advance comments on proposals to amend the regulations under the Packers and Stockyards Act to address concerns regarding price discovery and fairness in fed cattle markets.

DATES: The comment period for the document originally published on October 11, 2024 (89 FR 82519) is extended 30 days. Comments must be submitted on or before January 10, 2025.

ADDRESSES: Comments can be submitted through the Federal e-rulemaking portal at https://www.regulations.gov and should reference the document number and the date and page number of this issue of the Federal Register. AMS strongly prefers comments be submitted electronically. However, written comments may be submitted (i.e., delivered, not postmarked) via mail on or before January 10, 2025, to Docket No. AMS-FTPP-24-0013, S. Brett Offutt, Chief Legal Officer, Packers and Stockyards Division, USDA, AMS, FTPP; Room 2097-S, Mail Stop 3601, 1400 Independence Ave. SW, Washington, DC 20250-3601. All comments submitted in response to this ANPR will be included in the record and will be made available to the public, as submitted, including any identifying information. Comments can be submitted anonymously by entering “N/A” in the fields that would identify the commenter. Pursuant to 5 U.S.C. 553(b)(4), a plain language summary of the ANPR is available on https://www.regulations.gov in the docket for this rulemaking.

FOR FURTHER INFORMATION CONTACT: S. Brett Offutt, Chief Legal Officer/Policy Advisor, Packers and Stockyards Division, USDA AMS Fair Trade Practices Program, 1400 Independence Ave. SW, Washington, DC 20250; Phone: (202) 690-4355; or email: s.brett.offutt@usda.gov.

SUPPLEMENTARY INFORMATION: An ANPR published in the Federal Register on October 11, 2024 (89 FR 82519), seeks public feedback on an identified set of regulatory options that AMS could employ to address concerns regarding price discovery and fairness in fed cattle markets. Information from public comments would inform AMS's approach to this topic, including any future regulatory changes.

The ANPR established a 60-day comment period, ending December 10, 2024. During the initial comment period, AMS received requests from several industry organizations asking for additional time to submit comments and citing the various proposals' complexity and wide-ranging impacts that could cause significant legal and economic changes in relationships between packers and their suppliers. AMS is extending the comment period related to the ANPR by an additional 30 days. Comments must be submitted on or before January 10, 2025.

Erin Morris,
Associate Administrator, Agricultural Marketing Service.

[FR Doc. 2024-27556 Filed 11-22-24; 8:45 am]

BILLING CODE P